DEPARTMENT OF LABOR

Occupational Safety and Health Administration

[Docket No. OSHA-2018-0012]

Advisory Committee on Construction Safety and Health (ACCSH); Charter Renewal

AGENCY: Occupational Safety and Health Administration (OSHA), Labor.

ACTION: Renewal of the ACCSH charter.

SUMMARY: The Secretary of Labor (Secretary) has renewed the charter for ACCSH.

FOR FURTHER INFORMATION CONTACT: Mr. Damon S. Bonneau, OSHA Directorate of Construction, Occupational Safety and Health Administration; telephone (202) 693-2020 (TTY (877) 889-5627); email: bonneau.damon@dol.gov.

SUPPLEMENTARY INFORMATION: The Secretary has renewed the ACCSH charter. The new charter will expire two years from the filing date.

Congress established ACCSH in Section 107 of the Contract Work Hours and Safety Standards Act (Construction Safety Act (CSA)) (40 U.S.C. 3704(d)(4)), to advise the Secretary in the formulation of construction safety and health standards as well as on policy matters arising under the CSA and the Occupational Safety and Health Act of 1970 (OSH Act) (29 U.S.C. 651 et seq.).

ACCSH operates in accordance with the Federal Advisory Committee Act (FACA) (5 U.S.C. App. 2), its implementing regulations (41 CFR part 102-3), OSHA's regulations on ACCSH (29 CFR part 1912), Secretary of Labor's Order 04-2018 (83 FR 35680, 7/27/18), and Chapter 1600 of Department of Labor Manual Series 3 (7/18/2016). Pursuant to FACA (5 U.S.C. App. 2, 14(b)(2)), the ACCSH charter must be renewed every two years.

The new charter updates the procedures for appointment of individuals to Department of Labor advisory committees.

Authority and Signature: Loren Sweatt, Deputy Assistant Secretary for Occupational Safety and Health, directed the preparation of this document under the authority granted by 29 U.S.C. 656; 40 U.S.C. 3704; 5 U.S.C. App. 2; 29 CFR parts 1911 and 1912; 41 CFR 102-3; and Secretary of Labor's Orders No. 1-2012 (77 FR 3912, 1/25/12).

Signed at Washington, DC, on November 9, 2018.
Loren Sweatt,
Deputy Assistant Secretary of Labor for Occupational Safety and Health.

[FR Doc. 2018-25113 Filed 11-16-18; 8:45 am]

BILLING CODE 4510-26-P